FEDERAL COMMUNICATIONS COMMISSION

Notice of Public Information Collection(s) Being Submitted to OMB for Review and Approval

May 17, 2000.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 23, 2000. If you anticipate that you will be submitting comments, but find it difficult to do so within the period of time allowed by this notice, you should advise the contact listed below as soon as possible.

ADDRESSES: Direct all comments to Les Smith, Federal Communications Commission, Room 1-A804, 445 12th Street, S.W., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0233.

Title: Part 36, Separations.

Form Number: N/A.

Type of Review: Extension of a currently approved collection.

Respondents: Business or other for-profit entities; and State, Local, or Tribal Governments.

Number of Respondents: 1,500.

Estimate Time Per Response: 2 to 22 hours.

Frequency of Response: On occasion, quarterly, and annual reporting requirements; Third party disclosure.

Total Annual Burden: 157,125 hours.

Total Annual Costs: None.

Needs and Uses: In order to allow determination of the study areas that are entitled to an expense adjustment, and the wire centers that are entitled to support, each incumbent local exchange carrier must make certain annual and/or quarterly data reports to the National Exchange Carrier Association. State or local telephone companies which want to participate in the federal assistance program must make certain informational showings to demonstrate eligibility.

OMB Control Number: 3060-0774.

Title: Federal-State Joint Board on Universal Service, CC Docket No. 96-45, 47 CFR part 54.

Form Number: N/A.

Type of Review: Extension of a currently approved collection.

Respondents: Business or other for-profit entities; Not-for-profit institutions; State, Local, or Tribal Governments.

Number of Respondents: 5,565,451.

Estimate Time Per Response: 2 to 4 hours.

Frequency of Response: On occasion, quarterly, and annual reporting requirements; Third party disclosure.

Total Annual Burden: 1,787,278 hours.

Total Annual Costs: None.

Needs and Uses: Congress directed the FCC to implement a new set of universal service support mechanisms that are explicit and sufficient to advance the universal service principles enumerated in 47 U.S.C. section 254 and other such principles as the Commission believes are necessary and appropriate for the protection of the public interest, convenience, and necessity, and are consistent with the Communications Act of 1934, as amended. Part 54 promulgates the rules and requirements to preserve and advance universal service. The collections are necessary to implement section 254.

Magalie Roman Salas,
Secretary.

[FR Doc. 00-13032 Filed 5-23-00; 8:45 am]

BILLING CODE 6712-01-P